DEPARTMENT OF LABOR

Employment and Training Administration

[TA-W-51,242]

PolyOne Corporation; O'Sullivan Plastic Division; Yerington, NV; Notice of Revised Determination on Reconsideration

On November 21, 2003, the Department issued an Affirmative Determination Regarding Application on Reconsideration applicable to workers and former workers of the subject firm. The notice was published in the Federal Register on December 19, 2003 (68 FR 70838).

On May 5, 2003 the Department initially denied TAA to workers of PolyOne Corporation, O'Sullivan Plastics Division, Yerington, Nevada producing calendared vinyl because the “contributed importantly” group eligibility requirement of Section 222 of the Trade Act of 1974 was not met.

On reconsideration, the department surveyed additional customers of the subject plant regarding their purchases of calendared vinyl during the relevant period. The survey revealed that major declining customer(s) increased their imports of calendared vinyl, while decreasing their purchases from the subject plant during the relevant period. These survey results, in combination with the volume of imports reported by the company in the initial investigation, indicate that imports contributed importantly to layoffs in the relevant period.

Conclusion

After careful review of the additional facts obtained on reconsideration, I conclude that increased imports of articles like or directly competitive with calendared vinyl, contributed importantly to the declines in sales or production and to the total or partial separation of workers of PolyOne Corporation, O'Sullivan Plastics Division, Yerington, Nevada. In accordance with the provisions of the Act, I make the following certification:

All workers of PolyOne Corporation, O'Sullivan Plastics Division, Yerington, Nevada who became totally or partially separated from employment on or after March 14, 2002 through two years of this certification, are eligible to apply for adjustment assistance under Section 223 of the Trade Act of 1974.

Signed in Washington, DC this 16th day of January 2004.
Elliott S. Kushner,
Certifying Officer, Division of Trade Adjustment Assistance.

[FR Doc. 04-3309 Filed 2-13-04; 8:45 am]

BILLING CODE 4510-30-P